ENVIRONMENTAL PROTECTION AGENCY

[FRL-9901-69-ORD; Docket ID No. EPA-HQ-ORD-2011-0391]

Notice of Extension of the Public Comment Period on the Draft Toxicological Review of Benzo[a]pyrene: In Support of the Summary Information on the Integrated Risk Information System (IRIS) and the Addition of Benzo[a]pyrene to the Agenda for the December 2013 IRIS Bimonthly Meeting

AGENCY: Environmental Protection Agency (EPA).

ACTION: Notice of Extension of the Public Comment Period to November 21, 2013, and the Public Meeting.

SUMMARY: EPA is announcing an extension of the public comment period for the draft human health assessment titled, “Toxicological Review of Benzo[a]pyrene: In Support of Summary Information on the Integrated Risk Information System (IRIS)” (EPA/635/R-13/138) and the draft peer review charge questions from October 21, 2013, to November 21, 2013. The draft assessment will be added to the agenda for the IRIS bimonthly public meeting scheduled for December 12-13, 2013. Information on this meeting, including location, time, registration, and participation procedures will be available on the IRIS Web site (http://www.epa.gov/iris/publicmeeting/).

DATES: The public comment period began on August 21, 2013, and is being extended to November 21, 2013. Comments should be in writing and must be received by EPA by November 21, 2013. Discussion of the draft Toxicological Review of Benzo[a]pyrene will be included on the agenda of the bimonthly IRIS public meeting to be held on December 12-13, 2013, at EPA offices in Arlington, Virginia.

ADDRESSES: Submit your comments, identified by Docket ID No. EPA-HQ-ORD-2011-0391 by one of the following methods:

• http://www.regulations.gov. Follow the on-line instructions for submitting comments.

• Email: Docket_ORD@epa.gov.

• Fax: 202-566-9744.

• Mail: U.S. Environmental Protection Agency, EPA Docket Center, (ORD Docket), Mail Code: 28221T, 1200 Pennsylvania Avenue NW., Washington, DC 20460. The phone number is 202-566-1752.

• Hand Delivery: The ORD Docket is located in the EPA Headquarters Docket Center, EPA West Building, Room 3334, 1301 Constitution Avenue NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by mail or hand delivery, please submit one unbound original with pages numbered consecutively, and three copies of the comments. For attachments, provide an index, number pages consecutively with the comments, and submit an unbound original and three copies.

Instructions for submitting comments to the EPA Docket: Direct your comments to Docket ID No. EPA-HQ-ORD-2011-0391. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

All documents in the docket are listed in the http://www.regulations.gov index. Although listed in the index, some information is not publicly available, e.g., CBI or other information whose disclosure is restricted by statute. Certain other material, such as copyrighted material, will be publicly available only in hard copy. Publicly available docket materials are available either electronically at www.regulations.gov or in hard copy at the ORD Docket in the EPA Headquarters Docket Center.

FOR FURTHER INFORMATION CONTACT: For information on the federal docket, contact the ORD Docket at the EPA Headquarters Docket Center at 202-566-1752; facsimile: 202-566-9744; or email: Docket_ORD@epa.gov.

For information on the bimonthly IRIS public meeting please contact Christine Ross, IRIS Staff, National Center for Environmental Assessment, (Mail Code: 8601P), U.S. EPA, 1200 Pennsylvania Avenue NW., Washington, DC 20460; telephone: 703-347-8592; facsimile: 703-347-8689; or email: ross.christine@epa.gov.

If you have questions about the document, contact Kathleen Newhouse, National Center for Environmental Assessment (NCEA); telephone: 703-347-8641; facsimile: 703-347-8689; or email: newhouse.kathleen@epa.gov.

SUPPLEMENTARY INFORMATION:

I. Information About IRIS

EPA's IRIS Program is a human health assessment program that evaluates quantitative and qualitative risk information on effects that may result from exposure to chemical substances found in the environment. Through the IRIS Program, EPA provides the highest quality science-based human health assessments to support the Agency's regulatory activities and decisions to protect public health. The IRIS database contains information for more than 500 chemical substances that can be used to support the first two steps (hazard identification and dose-response evaluation) of the human health risk assessment process. When supported by available data, IRIS provides health effects information and toxicity values for health effects (including cancer and effects other than cancer). Government and others combine IRIS toxicity values with exposure information to characterize public health risks of chemical substances; this information is then used to support risk management decisions designed to protect public health and the environment.

II. Extension of Comment Period

The EPA is extending the deadline for submitting comments on the draft Toxicological Review of Benzo[a]pyrene and on the draft peer review charge questions to November 21, 2013. The original deadline for comments was October 21, 2013, as announced in the Federal Register on August 21, 2013 (78 FR 51719). This decision responds to requests to extend the comment deadline from the following organizations: American Coke and Coal Chemicals Institute, American Fuel & Petrochemical Manufacturers, American Petroleum Institute, Asphalt Institute, Association of American Railroads, and the Pavement Coatings Technology Council. The EPA believes this extension will assist in providing an adequate amount of additional time for the public to review the drafts and to provide written comments. EPA released this draft assessment and peer review charge questions for the purpose of public comment. This draft assessment is not final as described in EPA's information quality guidelines, and it does not represent and should not be construed to represent Agency policy or views.

III. Bimonthly Public Meeting

In addition to the extension of the public comment period announced in this notice, the draft assessment will be discussed at the bimonthly IRIS public meeting scheduled for December 12-13, 2013. Information on this meeting, including location, time, registration, and participation procedures, will be available on the IRIS Web site (http://www.epa.gov/iris/publicmeeting/). The purpose of the IRIS public meeting is to allow all interested parties to present scientific and technical comments on the draft IRIS health assessment and charge questions to EPA and other interested parties attending the meeting. The public comments provided in response to this notice, and at the IRIS public meeting, will be considered by the Agency prior to submitting the draft assessment to EPA's Science Advisory Board (SAB) for peer review.

IV. Peer Review

In addition to this public comment period, the draft assessment will be sent to the SAB Chemical Assessment Advisory Committee (CAAC) for peer review. The EPA SAB is a body established under the Federal Advisory Committee Act with a broad mandate to advise the Agency on scientific matters. The public comment period and bimonthly public meeting announced in this notice are separate processes from the SAB/CAAC peer review. The SAB will schedule one or more public peer review meetings, which will be announced in a separate Federal Register Notice at a later date.

Dated: September 26, 2013.
Kenneth Olden,
Director, National Center for Environmental Assessment.

[FR Doc. 2013-25068 Filed 10-23-13; 8:45 am]

BILLING CODE 6560-50-P